DEPARTMENT OF COMMERCE

National Oceanic and Atmospheric Administration

RIN 0648-XD990

Atlantic Highly Migratory Species; Essential Fish Habitat

AGENCY: National Marine Fisheries Service (NMFS), National Oceanic and Atmospheric Administration (NOAA), Commerce.

ACTION: Notice of public hearings.

SUMMARY: On September 8, 2016, NMFS published a notice of availability of the Draft Environmental Assessment for Amendment 10 to the 2006 Consolidated Atlantic Highly Migratory Species (HMS) Fishery Management Plan (FMP). The purpose of this Draft Amendment is to update Atlantic HMS Essential Fish Habitat (EFH) with recent information following the EFH delineation methodology established in Amendment 1 to the 2006 Consolidated Atlantic HMS FMP (Amendment 1); update and consider new Habitat Areas of Particular Concern (HAPCs) for Atlantic bluefin tuna and sandbar, lemon, and sand tiger sharks based on recent information, as warranted; minimize to the extent practicable the adverse effects of fishing and non-fishing activities on EFH; and identify other actions to encourage the conservation and enhancement of EFH. NMFS announces two public hearing conference calls/webinars to allow opportunities for interested members of the public from all geographic areas to submit verbal comments on Draft Amendment 10.

DATES: NMFS will host public hearing conference calls/webinars on November 10, 2016, from 3 to 5 p.m. EST and November 18, 2016, from 10 a.m. to 12 p.m. EST. Written comments on Draft Amendment 10 will be accepted until December 22, 2016.

ADDRESSES: Two public hearing conference calls/webinars will be conducted. See SUPPLEMENTARY INFORMATION for information on how to access the conference calls/webinars. More information about Draft Amendment 10, including how to submit written comments, may be found at http://www.fisheries.noaa.gov/sfa/hms/documents/fmp/am10/index.html.

FOR FURTHER INFORMATION CONTACT: Jennifer Cudney or Randy Blankinship at (727) 824-5399.

SUPPLEMENTARY INFORMATION: The Magnuson-Stevens Fishery Conservation and Management Act (Magnuson-Stevens Act) includes provisions concerning the identification and conservation of EFH (16 U.S.C. 1801 et seq.). EFH is defined at 50 CFR 600.10 as “those waters and substrate necessary to fish for spawning, breeding, feeding, or growth to maturity.” NMFS must identify and describe EFH, minimize to the extent practicable the adverse effects of fishing on EFH, and identify actions to encourage the conservation and enhancement of EFH (§ 600.815(a)). Federal agencies that authorize, fund, or undertake actions that may adversely affect EFH must consult with NMFS (§ 600.920(a)), and NMFS must provide comments and EFH conservation recommendations to Federal or state agencies regarding any such actions (§ 600.905).

In addition to identifying and describing EFH for managed fish species, a review of EFH must be completed every 5 years, and EFH provisions must be revised or amended, as warranted, based on the best available scientific information. NMFS announced the initiation of this review and solicited information for compilation for the draft review from the public in a Federal Register notice on March 24, 2014 (79 FR 15959). The initial public review/submission period ended on May 23, 2014. The Draft Atlantic HMS EFH 5-Year Review was made available on March 5, 2015 (80 FR 11981), and the public comment period ended on April 6, 2015. NMFS analyzed the information gathered through the EFH review process, and the Notice of Availability for the Final Atlantic HMS EFH 5-Year Review was published on July 1, 2015 (80 FR 37598). As a result of this review, NMFS determined that a revision of HMS EFH was warranted, and that an amendment to the 2006 Consolidated Atlantic HMS FMP would be developed as Amendment 10.

On September 8, 2016 (81 FR 62100), NMFS published a notice of availability of the Draft Environmental Assessment for Amendment 10 to the 2006 Consolidated Atlantic HMS FMP. Specific actions analyzed included the update and revision of existing HMS EFH, as warranted; modification of existing HAPCs or designation of new HAPCs for bluefin tuna and sandbar, lemon, and sand tiger sharks, as warranted; and analysis of fishing and non-fishing impacts on EFH by considering environmental and management changes and new information since 2009.

Public Hearing Conference Calls/Webinars

NMFS will conduct two public hearing conference calls/webinars to allow members of the public from all geographic areas to submit verbal comments on Draft Amendment 10. To participate in those calls, use the following information:

Table 1—Date, Time, and Access Information for Public Conference Calls/Webinars
Date and time | Access information
November 10, 2016, 3-5 p.m. EST | To participate in the conference call, call: (888) 455-5378 Passcode: 6522610. To participate in the webinar, go to: https://noaaevents3.webex.com/noaaevents3/onstage/g.php?MTID=e767babee686fc6fae2441d750ab3338c. Meeting Number: 396 375 761. Meeting Password: NOAA.
November 18, 2016, 10 a.m.-12 p.m. EST | To participate in the conference call, call: (888) 455-5378 Passcode: 6522610. To participate in the webinar, go to: https://noaaevents3.webex.com/noaaevents3/onstage/g.php?MTID=ecebbb5a35ab25a56d9ef800370c24af6. Meeting Number: 392 481 985. Meeting Password: NOAA.

Participants are strongly encouraged to log/dial in 15 minutes prior to the meeting to allow time to address any technical issues. NMFS will show a brief presentation via webinar followed by public comment. To participate in the webinars online, enter your name and email address, and click the “JOIN” button. Participants that have not used WebEx before will be prompted to download and run a plug-in program that will enable them to view the webinar. Presentation materials and other supporting information will be posted on the HMS Web site at www.nmfs.noaa.gov/sfa/hms.

The public is reminded that participants at public hearings and on conference calls must conduct themselves appropriately. At the beginning of the conference call, a representative of NMFS will explain the ground rules (all comments are to be directed to the agency on the proposed action; attendees will be called to give their comments in the order in which they registered to speak; each attendee will have an equal amount of time to speak; and attendees should not interrupt one another). The NMFS representative will attempt to structure the meeting so that all attending members of the public will be able to comment, if they so choose, regardless of the controversial nature of the subject matter. If attendees do not respect the ground rules, they will be asked to leave the conference call.

Dated: October 11, 2016.
Emily H. Menashes,
Acting Director, Office of Sustainable Fisheries, National Marine Fisheries Service.

[FR Doc. 2016-24919 Filed 10-13-16; 8:45 am]

BILLING CODE 3510-22-P